NATIONAL CREDIT UNION ADMINISTRATION

Sunshine Act: Notice of Agency Meeting

TIME AND DATE: 10:00 a.m., Thursday, October 15, 2015.

PLACE: Board Room, 7th Floor, Room 7047, 1775 Duke Street (All visitors must use Diagonal Road Entrance), Alexandria, VA 22314-3428.

STATUS: Open.

MATTERS TO BE CONSIDERED:

1. National Credit Union Share Insurance Fund Quarterly Report.

2. NCUA Rules and Regulations, Permissible Investment Activities—Bank Notes.

3. Delegations of Authority, Approval of Community Charter Requests.

4. NCUA Rules and Regulations, Prompt Corrective Action and Risk-Based Capital Measures.

RECESS: 11:15 a.m.

TIME AND DATE: 11:30 a.m., Thursday, October 15, 2015.

PLACE: Board Room, 7th Floor, Room 7047, 1775 Duke Street, Alexandria, VA 22314-3428.

STATUS: Closed.

MATTERS TO BE CONSIDERED:

1. Consideration of Supervisory Action. Closed pursuant to Exemptions (8), (9)(i)(B), and (9)(ii).

2. Review of Supervisory Action. Closed pursuant to Exemptions (8), (9)(i)(B), and (9)(ii).

3. Personnel. Closed pursuant to Exemptions (2) and (6).

FOR FURTHER INFORMATION CONTACT: Gerard Poliquin, Secretary of the Board, Telephone: 703-518-6304.

Gerard Poliquin,
Secretary of the Board.

[FR Doc. 2015-26128 Filed 10-8-15; 4:15 pm]

BILLING CODE 7535-01-P